SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA), which requires agencies to submit proposed reporting and recordkeeping requirements to OMB for review and approval, and to publish a notice in the Federal Register notifying the public that the agency has made such a submission. This notice also allows for an additional 30 days for public comments.

DATES: Submit comments on or before July 19, 2017.

ADDRESSES: Comments should refer to the information collection by name and/or OMB Control Number and should be sent to: Management Analyst, Curtis B. Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis B. Rich, Management Analyst, 202-205-7030 Curtis.Rich@sba.gov.

Copies: A copy of the Form OMB 83-1, supporting statement, and other documents submitted to OMB for review may be obtained from the Management Analyst.

SUPPLEMENTARY INFORMATION: Currently, there is minimal data or information available that addresses the participation of millennial women in entrepreneurship and the motivations, deterrents, and challenges that they face. As such, this collection of information is necessary to fill the current void in the literature on the factors that influence entrepreneurial launches and operations among millennials, with a focus on millennial women and the role of student debt. The data collection is required to develop specific and actionable recommendations to increase opportunities for millennials interested in entrepreneurship or currently pursuing entrepreneurship with an eye towards improving the overall United States economy. Respondents will be prospective millennial women entrepreneurs, current millennial women entrepreneurs, and current millennial men entrepreneurs.

Solicitation of Public Comments: Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections

Title: Research on Millennial Women Entrepreneurs.

Description of Respondents: Prospective millennial women entrepreneurs, current millennial women entrepreneurs, and current millennial men entrepreneurs.

Form Number: N/A.

Estimated Annual Respondents: 108.

Estimated Annual Responses: 108.

Estimated Annual Hour Burden: 216.

Curtis B. Rich,
Management Analyst.

[FR Doc. 2017-12642 Filed 6-16-17; 8:45 am]

BILLING CODE P